ENVIRONMENTAL PROTECTION AGENCY

[FRL-8535-6]

Science Advisory Board Staff Office; EPA Clean Air Scientific Advisory Committee (CASAC); Notification of Public Advisory Committee Meeting (Teleconference) of the Ambient Air Monitoring & Methods (AAMM) Subcommittee

AGENCY: Environmental Protection Agency (EPA).

ACTION: Notice.

SUMMARY: The Environmental Protection Agency (EPA or Agency) Science Advisory Board (SAB) Staff Office announces a public teleconference of the Ambient Air Monitoring & Methods (AAMM) Subcommittee of the Clean Air Scientific Advisory Committee (CASAC) to conduct a consultation concerning ambient air monitoring issues related to the National Ambient Air Quality Standards (NAAQS) for lead, including issues associated with alternative lead indicators.

DATES: The teleconference meeting will be held on Tuesday, March 25, 2008, from 1 p.m. to 5 p.m. (Eastern Time).

FOR FURTHER INFORMATION CONTACT: Any member of the public who wishes to obtain the teleconference call-in number and access code; submit a written or brief oral statement (three minutes or less); or receive further information concerning this teleconference meeting, must contact Mr. Fred Butterfield, Designated Federal Officer (DFO). Mr. Butterfield may be contacted at the EPA Science Advisory Board (1400F), U.S. Environmental Protection Agency, 1200 Pennsylvania Avenue, NW., Washington, DC 20460; or via telephone/voice mail: (202) 343-9994; fax: (202) 233-0643; or e-mail at: butterfield.fred@epa.gov. General information concerning the CASAC or the EPA SAB can be found on the EPA Web site at: http://www.epa.gov/casac or http://www.epa.gov/sab, respectively.

SUPPLEMENTARY INFORMATION:

Background: The CASAC, which is comprised of seven members appointed by the EPA Administrator, was established under section 109(d)(2) of the Clean Air Act (CAA or Act) (42 U.S.C. 7409) as an independent scientific advisory committee. The CASAC provides advice, information and recommendations on the scientific and technical aspects of issues related to air quality criteria and NAAQS under sections 108 and 109 of the Act. The CASAC is chartered under the Federal Advisory Committee Act (FACA), as amended, 5 U.S.C., App. The SAB Staff Office established the CASAC AAMM Subcommittee in 2004 as a standing subcommittee to provide the EPA Administrator, through the CASAC, with advice and recommendations, as necessary, on topical areas related to ambient air monitoring, methods and networks. The Subcommittee complies with the provisions of FACA and all appropriate SAB Staff Office procedural policies.

Section 109(d)(1) of the CAA requires that the Agency periodically review and revise, as appropriate, the air quality criteria and the NAAQS for the six “criteria” air pollutants, including lead. The current review of the Lead NAAQS was initiated in early 2005. In December 2007, the CASAC Lead Review Panel met to conduct a review of the Advance Notice of Proposed Rulemaking (ANPR) on the NAAQS for Lead. The Lead Panel also reviewed the Agency's Final Lead Staff Paper and the Final Lead Risk Assessment Report. The CASAC's report to the EPA Administrator concerning this review (EPA-CASAC-08-007, dated January 22, 2008) is posted on the CASAC Web page that can be accessed at the URL address provided above.

In this report, the CASAC noted that Agency staff, in its Final Lead Staff Paper, had recommended that the Administrator consider retaining lead in total suspended particulates (Pb-TSP) as the indicator for ambient lead. While, historically, the Lead NAAQS has relied on TSP samples for quantifying ambient lead concentrations, the CASAC recommended that EPA should transition to lead in PM10 (Pb-PM10) sampling for quantifying ambient lead concentrations. In particular, the CASAC observed that Pb-PM10 is a much more accurate and precisely measured indicator and represents the fraction of lead that is more relevant for human exposures. Furthermore, the CASAC noted that there is a greater availability of Pb-PM10 samplers than Pb-TSP samplers throughout the U.S. Additionally, the CASAC found the existing Pb-TSP network inadequate in its ability to characterize population exposures, conditions around large sources, and concentrations at typical ambient concentrations in many parts of the country. CASAC also indicated in the letter that its AAMM Subcommittee would be better-suited to provide advice on lead monitoring and network design issues. Accordingly, the purpose of this public teleconference meeting is for the Subcommittee to conduct a consultation with Agency staff on several draft EPA documents relating to the ambient air monitoring of Pb-PM10, including options for the Lead NAAQS indicator, a draft Federal Reference Method (FRM) for Pb-PM10, lead monitoring network design, and sampling frequency. The SAB Staff Office has developed the consultation as a mechanism to provide early input and advice to EPA on technical issues that should be considered in the development of regulations, guidelines, or technical guidance before the Agency has taken a position.

Technical Contacts: Any technical questions concerning these Lead NAAQS indicator and ambient air monitoring issues can be directed to Mr. Kevin Cavender, OAQPS, at phone: (919) 541-2364, or e-mail: cavender.kevin@epa.gov; or to Mr. Lewis Weinstock, OAQPS, at phone: (919) 541-3661, or e-mail: weinstock.lewis@epa.gov.

Availability of Meeting Materials: On or about March 3, 2008, the Agency will post the documents to be discussed during this consultation on the EPA Technology Transfer Network (TTN) Web page for the Lead NAAQS, “Lead (Pb)—Documents from Current Review—Technical Documents,” found at: http://www.epa.gov/ttn/naaqs/standards/pb/s_pb_cr_td.html. In addition, the Agency will announce the availability of these materials, to include the process for submitting public comments on these documents, by means of a separate Federal Register notice to be published around the first week in March. Furthermore, a copy of the draft agenda and other materials for this CASAC teleconference will be posted on the SAB Web site at: http://yosemite.epa.gov/sab/sabproduct.nsf/WebCASAC/recentadditions prior to the meeting.

Procedures for Providing Public Input: Interested members of the public may submit relevant written or oral information for the CASAC AAMM Subcommittee to consider on the topics included in this advisory activity and/or the group conducting the activity. Oral Statements: In general, individuals or groups requesting an oral presentation at a public teleconference will be limited to three minutes per speaker, with no more than a total of 30 minutes for all speakers. Interested parties should contact Mr. Butterfield, DFO, in writing (preferably via e-mail), by March 18, 2008, at the contact information noted above, to be placed on the list of public speakers for this meeting. Written Statements: Written statements should be received in the SAB Staff Office by March 21, 2008, so that the information may be made available to the Subcommittee for its consideration prior to this teleconference. Written statements should be supplied to the DFO electronically via e-mail (acceptable file formats: Adobe PDF, MS Word, WordPerfect, MS PowerPoint, or Rich Text files in IBM-PC/Windows 98/2000/XP format).

Accessibility: For information on access or services for individuals with disabilities, please contact Mr. Butterfield at the phone number or e-mail address noted above, preferably at least ten days prior to the meeting, to give EPA as much time as possible to process your request.

Dated: February 25, 2008.
Anthony F. Maciorowski,
Deputy Director, EPA Science Advisory Board Staff Office.

[FR Doc. E8-3933 Filed 2-28-08; 8:45 am]

BILLING CODE 6560-50-P